DEPARTMENT OF DEFENSE

Department of the Navy

Intent To Grant Exclusive Patent License; Marine Desalination Systems, LLC

AGENCY: Department of the Navy, DOD.

ACTION: Notice.

SUMMARY: The Department of the Navy hereby gives notice of its intent to grant to Marine Desalination Systems, LLC, a revocable, nonassignable, exclusive license in the United States to practice the Government-Owned invention described in U.S. Patent Application Serial No. 09/195,159 (Navy Case No. 79,584) entitled “Desalination Through Methane Hydrate” filed November 18, 1998.

DATES: Anyone wishing to object to the grant of this license must file written objections along with supporting evidence, if any, not later than October 2, 2000.

ADDRESSES: Written objections are to be filed with the Naval Research Laboratory, Code 1004, 4555 Overlook Avenue, SW., Washington, DC 20375-5320.

FOR FURTHER INFORMATION CONTACT: Catherine M. Cotell, Head, Technology Transfer Office, NRL Code 1004, 4555 Overlook Avenue, SW., Washington, DC 20375-5320; telephone (202) 767-7230.

(Authority: 35 U.S.C. 207, 37 CFR Part 404)

Dated: July 25, 2000.
J.L. Roth,
Lieutenant Commander, Judge Advocate General's Corps, U.S. Navy, Federal Register Liaison Officer.

[FR Doc. 00-19629 Filed 8-2-00; 8:45 am]

BILLING CODE 3810-FF-P